DEPARTMENT OF THE INTERIOR

National Park Service

National Register of Historic Places; Notification of Pending Nominations

Nominations for the following properties being considered for listing in the National Register were received by the National Park Service before May 3, 2003. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by June 13, 2003.

Carol D. Shull,
Keeper of the National Register of Historic Places.

COLORADO

Douglas County

Devils Head Lookout, South Platte District, Pike National Forest, Sedalia, 03000518.

LOUISIANA

Orleans Parish

Broadmoor Historic District, Roughly bounded by South Broad/Fountainbleau, Milan, S. Claiborne and Octavia, New Orleans, 03000519.

MINNESOTA

Hennepin County

Lock and Dam No. 2, Mississippi R N of Lake St/Marshall Ave., Minneapolis, 03000522.

Le Sueur County

Dodd Road Discontiguous District, Roughly Cty Rd. 1 to MN 21, Cty Rd. 136 W of Kilkenny cont. NW to Cty Rd. 2, Cty Rd. 148 W of Cleveland., Forest, 03000520.

St. Louis County

Pyhala, Anna and Mikko, Farm, (Rural Finnish Log Buildings of St. Louis County, Minnesota, 1890-1930s MPS) 4745 Salo Rd., Embarrass, 03000521.

MISSOURI

Jackson County

Exchange Building, 1201-1207 Grand Blvd., Kansas City, 03000524.

Greenlease Cadillac Building, 2900 Gillham Rd., Kansas City, 03000523.

Knickerbocker Apartments, 501-535 Knickerbocker Place, Kansas City, 03000525.

NEW HAMPSHIRE

Grafton County

Greenleaf, Abbie, Library, 439 Main St., Franconia, 03000526.

PENNSYLVANIA

Delaware County

Booth Farm, 3221 Foulk Rd., Boothwyn, 03000527.

Philadelphia County

Philadelphia School of Occupational Therapy, 419 S. 19th St., Philadelphia, 03000528.

A request for REMOVAL has been made for the following resources:

MINNESOTA

Rice County

Church of St. Patrick—Catholic (Rice County MRA), Co. Hwy. 10 (Dodd Rd.), Faribault (vicinity), 82003032.

Scott County

Roehl-Lenzmeier House (Scott County MRA), MN 300 Shakopee (vicinity), 80002170.

St. Louis County

Hearding, John Harris, Grammar and High School and John A. Johnson Grammar School Jct. Of 4th Ave. N and First St. W, Aurora, 96001593.

[FR Doc. 03-13337 Filed 5-28-03; 8:45 am]

BILLING CODE 4312-51-P